DEPARTMENT OF HOMELAND SECURITY

Coast Guard

[Docket No. USCG-2015-0042]

Navigation Safety Advisory Council

AGENCY: Coast Guard, DHS.

ACTION: Notice of Federal Advisory Committee Meeting.

SUMMARY: The Navigation Safety Advisory Council will meet on February 18-19, 2015, in Oakland, California to discuss matters relating to maritime collisions, rammings, and groundings, Inland Rules of the Road, International Rules of the Road, navigation regulations and equipment, routing measures, marine information, diving safety, and aids to navigation systems. These meetings will be open to the public.

DATES: The Navigation Safety Advisory Council will meet on Wednesday, February 18, 2015, from 8 a.m. to 5:30 p.m., and on Thursday, February 19, 2015, from 8 a.m. to 5:30 p.m. Please note these meetings may close early if the Council has completed its business.

ADDRESSES: The meeting will be held at the Executive Inn and Suites, 1755 Embarcadero, Oakland, California 94606. https://maps.google.com/maps?psj=1&bav=on.2,or.r_qf.&bvm=bv.83829542,d.eXY&biw=1419&bih=814&dpr=1&um=1&ie=UTF-8&q=executive+inn+and+suites+oakland&fb=1&gl=us&hq=executive+inn+and+suites+oakland&cid=12733826814197203612&sa=X&ei=y_DAVP-AHIH-gwSwnoHwBA&ved=0CCwQrwswAA&output=classic&dg=brw.

For information on facilities or services for individuals with disabilities or to request special assistance at the meeting, contact Mr. Burt Lahn listed in the FOR FURTHER INFORMATION CONTACT section below as soon as possible.

To facilitate public participation, we are inviting public comment on the issues to be considered by the Council as listed in the “Agenda” section below. Any written material submitted by the public will be distributed to the Council and become part of the public record. Written comments must be identified by USCG-2014-0405 and be submitted using one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal holidays. The telephone number is 202-366-9329.

Instructions: All submissions received must include the words “Department of Homeland Security” and the docket number for this action, USCG 2015-0042. Comments received will be posted without alteration at http://www.regulations.gov, including any personal information provided. You may review a Privacy Act notice regarding our public dockets in the January 17, 2008, issue of the Federal Register (73 FR 3316).

Docket: For access to the docket to read documents or comments related to this notice, go to http://www.regulations.gov insert USCG-2015-0042 in the Search box, press Enter, and then click on the item you wish to view.

A public comment period will be held during the meeting on February 18, 2015, from 5 p.m. to 5:30 p.m. and on February 19, 2015, prior to the close of the meeting. Public presentations may also be given. Speakers are requested to limit their presentation and comments to 10 minutes. Please note that the public comment period may end before the time indicated, following the last call for comments. To register as a speaker, contact Mr. Burt Lahn listed in the FOR FURTHER INFORMATION CONTACT section below.

FOR FURTHER INFORMATION CONTACT: If you have questions about these meetings, please contact Mr. George Detweiler, the Navigation Safety Advisory Council Alternate Designated Federal Officer, Commandant (CG-NAV-2), U.S. Coast Guard, 2703 Martin Luther King Jr. Avenue SE., Stop 7418, Washington, DC 20593, telephone 202-372-1566 or email George.H.Detweiler@uscg.mil or Mr. Burt Lahn, Navigation Safety Advisory Council meeting coordinator, at telephone 202-372-1526 or email burt.a.lahn@uscg.mil. If you have questions on viewing or submitting material to the docket, call Cheryl Collins, Program Manager, Docket Operations, telephone 202-366-9826 or 1-800-647-5527.

SUPPLEMENTARY INFORMATION: Notice of this meeting is given under the Federal Advisory Committee Act, Title 5 United States Code, Appendix.

The Navigation Safety Advisory Council is an advisory committee authorized in 33 United States Code 2073 and chartered under the provisions of the Federal Advisory Committee Act. The Navigation Safety Advisory Council provides advice and recommendations to the Secretary, through the Commandant of the U.S. Coast Guard, on matters relating to prevention of maritime collisions, rammings, and groundings, Inland and International Rules of the Road, navigation regulations and equipment, routing measures, marine information, diving safety, and aids to navigation systems.

A copy of all meeting documentation is available at https://homeport.uscg.mil/mycg/portal/ep/channelView.do?channelId=-18422&channelPage=%252Fep%252Fchannel%252Fdefault.jsp&pageTypeId=1348. Alternatively, you may contact Mr. Burt Lahn as noted in the FOR FURTHER INFORMATION section above.

Agenda

The Navigation Safety Advisory Council will meet to review, discuss and formulate recommendations on the following topics.

Wednesday, February 18, 2015:

(1) E-Navigation Strategy. E-navigation is the collection, integration and display of maritime information onboard and ashore by electronic means to enhance berth-to-berth navigation and related services, safety and security and protection of the marine environment. The Coast Guard will provide an update on international developments in E-navigation and its own efforts to implement E-navigation;

(2) Atlantic Coast Port Access Route Study. The Atlantic Coast Port Access Route Study was initiated to study the navigational users and industrial development off the Atlantic Coast. The Coast Guard will provide an update on the results of this ongoing effort; and

(3) The Coast Guard's Future of Navigation initiative leverages technology in order to optimize the mix of electronic and visual aids to navigation. The Coast Guard will provide information on this project.

Following the above presentations, the Designated Federal Officer will form working groups to continue discussions on the following task statements that were provided to the Council at the June, 2014 meeting:

(1) Navigation Safety Advisory Council Task 14-01—Modernization of Marine Safety Information systems;

(2) Navigation Safety Advisory Council Task 14-02—Automatic Identification Systems Aids to Navigation, and

(3) Navigation Safety Advisory Council Task 14-03—Navigation Interests in Marine Planning.

The Designated Federal Officer will form working groups to discuss and provide recommendations on the following new task statements as appropriate:

(1) Navigation Safety Advisory Council Task 15-01—Unmanned Maritime Systems Best Practices, and

(2) Navigation Safety Advisory Council Task 15-02—Towing Safety Advisory Committee final report on Infrastructure Affecting Navigation (Subcommittee Task 13-04). The Council will be asked to review the final report and provide comments on possible impacts of the recommendations to the navigation rules.

Public comments or questions will be taken during the meeting as the Council discusses each issue and prior to the Council formulating recommendations on each issue. There will also be a public comment period at the end of the meeting.

Thursday, February 19, 2015:

(1) Working Group discussions continued from Wednesday, 18 February, 2015;

(2) Working Group reports presented to the Council;

(3) New Business;

a. Summary of Navigation Safety Advisory Council action items.

b. Schedule next meeting date—Spring, 2015.

c. Council discussions and acceptance of new tasks.

A public comment period will be held after the discussion of new tasks. Speakers' comments are limited to 10 minutes each. Public comments or questions will be taken at the discretion of the Designated Federal Officer during the discussion and recommendations, and new business portion of the meeting.

Minutes: Minutes from the meeting will be available for public view and copying within 90 days following the meeting at https://homeport.uscg.mil/mycg/portal/ep/channelView.do?channelId=-18422&channelPage=%252Fep%252Fchannel%252Fdefault.jsp&pageTypeId=1348.

Dated: January 28, 2015.
G.C. Rasicot,
Director, Marine Transportation Systems, U.S. Coast Guard.

[FR Doc. 2015-01961 Filed 2-2-15; 8:45 am]

BILLING CODE 9110-04-P